DEPARTMENT OF HEALTH AND HUMAN SERVICES

Office of the Secretary

[Document Identifier: HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before May 15, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-New-60D for reference.

Information Collection Request Title: Healthy People User Study.

Abstract: Healthy People is a national health promotion and disease prevention initiative managed out of the Office of the Assistant Secretary for Health (OASH), Office of Disease Prevention and Health Promotion (ODPHP). HHS/OS/OASH/ODPHP is seeking OMB approval to conduct a short survey using a self-administered questionnaire of state, local, and tribal organizations; Healthy People Consortium organizations; and Healthy People webinar attendees. The survey will be administered via a web-based platform.

The Healthy People initiative has provided a comprehensive set of data-driven, national disease prevention and health promotion objectives with 10-year targets aimed at improving the health of all Americans since 1979. Healthy People 2020 (HP2020) is the fourth iteration of the Healthy People initiative. Its overarching goals are: To attain high-quality, longer lives free of preventable disease, disability, injury, and premature death; to achieve health equity, eliminate disparities, and improve the health of all groups; to create social and physical environments that promote good health for all; and to promote quality of life, healthy development, and health behaviors across all life stages. HP2020 consists of over 1200 objectives organized under 42 topic areas.

Likely Respondents: Healthy People State Coordinators, State Health Department Senior Deputy Directors, local and tribal health organizations, Healthy People Consortium organizations, and Healthy People webinar attendees.

Total Estimated Annualized Burden—Hours
Type of respondent | Number of respondents | Number responses per respondent | Average burden per response (hours) | Total burden hours
Healthy People State Coordinators (Frame A) | 59 | 1 | 18/60 | 18
Senior Deputy Directors (Frame A *) | 57 | 1 | 18/60 | 17
Local Health Organizations (Frame B) | 375 | 1 | 18/60 | 113
Tribal Health Organizations (Frame C) | 100 | 1 | 18/60 | 30
Tribal Area Health Boards (Frame D) | 11 | 1 | 18/60 | 3
Healthy People Consortium Organizations (Frame E) | 250 | 1 | 18/60 | 75
Healthy People Webinar Attendees (Frame F) | 250 | 1 | 18/60 | 75
Total | 1,102 |  |  | 331

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Deputy Information Collection Clearance Officer.

[FR Doc. 2015-05839 Filed 3-13-15; 8:45 am]

BILLING CODE 4150-32-P